DEPARTMENT OF HOMELAND SECURITY

Office of the Secretary

[Docket No. DHS-2008-0013]

Privacy Act of 1974; Department of Homeland Security Claims Records; System of Records

AGENCY: Privacy Office; DHS.

ACTION: Notice of Privacy Act system of records.

SUMMARY: In accordance with the Privacy Act of 1974 and as part of the Department of Homeland Security's ongoing effort to review and update legacy system of record notices, the Department of Homeland Security proposes to consolidate nine legacy record systems: DOT/CG 508 Claims and Litigation, Treasury/CS.045 Claims Act File, Treasury/CS.046 Claims Case File, Treasury/CS.144 Mail Protest File, Treasury/CS.148 Military Personnel and Civilian Employees' Claims Act File, Treasury/CS.232 Tort Claims Act File, Treasury/CS.234 Tort Claims Act File, Treasury/CS.268 Military Personnel and Civilian Employees' Claim Act File, and FEMA/GC-1 Claims (litigation) into one Department of Homeland Security-wide system of records. The Department of Homeland Security also proposes to partially consolidate one legacy record system: Treasury/USSS.001 Administrative Information System, August 28, 2001, into this Department-wide system of records. This system will allow the Department of Homeland Security to respond to, and process, claims submitted to, or by, the Department of Homeland Security, including requests for waivers of claims. Categories of individuals, categories of records, and the routine uses of these legacy system of records notices have been consolidated and updated to better reflect the Department's claims record systems. Additionally, DHS is issuing a Notice of Proposed Rulemaking (NPRM) concurrent with this SORN elsewhere in the Federal Register. The exemptions for the legacy system of records notices will continue to be applicable until the final rule for this SORN has been completed. This consolidated system, titled Claims Records, will be included in the Department's inventory of record systems.

DATES: Submit comments on or before November 28, 2008.

ADDRESSES: You may submit comments, identified by docket number DHS-2008-0013 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS) and its components and offices have relied on preexisting Privacy Act systems of records notices for the collection and maintenance of records that concern claims submitted to DHS.

As part of its efforts to streamline and consolidate its Privacy Act records systems, DHS is establishing a new agency-wide system of records under the Privacy Act (5 U.S.C. 552a) for DHS claims records. This will ensure that all components of DHS follow the same privacy rules for collecting and maintaining records on claims. DHS will use this system to collect and maintain claims submitted to it by DHS personnel and others.

In accordance with the Privacy Act of 1974 and as part of DHS's ongoing effort to review and update legacy system of record notices, DHS proposes to consolidate nine legacy record systems: DOT/CG 508 Claims and Litigation (65 FR 19475 April 11, 2000), Treasury/CS.045 Claims Act File (66 FR 52984 October 18, 2001), Treasury/CS.046 Claims Case File (66 FR 52984 October 18, 2001), Treasury/CS.144 Mail Protest File (66 FR 52984 October 18, 2001), Treasury/CS.148 Military Personnel and Civilian Employees' Claims Act File (66 FR 52984 October 18, 2001), Treasury/CS.232 Tort Claims Act File (66 FR 52984 October 18, 2001), Treasury/CS.234 Tort Claims Act File (66 FR 52984 October 18, 2001), Treasury/CS.268 Military Personnel and Civilian Employees' Claim Act File (66 FR 52984 October 18, 2001), and FEMA/GC-1, Claims (litigation) (66 FR 47228 September 11, 2001) into one DHS-wide system of records. DHS also proposes to partially consolidate one legacy record system: Treasury/USSS.001 Administrative Information System (66 FR 45362 August 28, 2001) into this Department-wide system of records. This system will allow DHS to respond to, and process, claims submitted to, or by, DHS, including requests for waivers of claims. Categories of individuals, categories of records, and the routine uses of these legacy system of records notices have been consolidated and updated to better reflect DHS's claims record systems. Additionally, DHS is issuing a Notice of Proposed Rulemaking (NPRM) concurrent with this SORN elsewhere in the Federal Register. The exemptions for the legacy system of records notices will continue to be applicable until the final rule for this SORN has been completed. This consolidated system of records, titled Claims Records, will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, visitors, and foreign nationals who are employed by the United States Government. Individuals may request access to their own records that are maintained in a system of records in the possession or under the control of DHS by complying with DHS Privacy Act regulations, 6 CFR Part 5.

The Privacy Act requires that each agency publish in the Federal Register a description denoting the type and character of each system of records in order to make agency recordkeeping practices transparent, to notify individuals about the use of their records, and to assist the individual to more easily find files within the agency. Below is a description of the Claims Records System of Records.

In accordance with 5 U.S.C. 552a(r), DHS has provided a report of this revised system of records to the Office of Management and Budget and to the Congress.

SYSTEM OF RECORDS: DHS/ALL-013

System name:

Department of Homeland Security Claims Records.

Security classification:

Unclassified.

System location:

Records are maintained at several Headquarters locations and in component offices of DHS, in both Washington, DC and field locations.

Categories of individuals covered by the system:

Any individual or entity who submits a claim to DHS and/or its components or against whom DHS files a claim.

Categories of records in the system:

Categories of records in this system include:

• Individual's or entity's name;

• Social security number;

• Entity's corporate tax identification number;

• Addresses;

• Telephone numbers;

• Description of the claim;

• Status of the claim;

• Banking account and routing number;

• Correspondence between the claimant or claimant's representative and DHS;

• Witness statements;

• Photos;

• Documents submitted by the claimant or claimant's representative in support of the claim; and

• Documents relating to the administrative handling of the claim.

Authority for maintenance of the system:

5 U.S.C. 301; The Federal Records Act, 44 U.S.C. 3101; The Homeland Security Act of 2002, Public Law 107-296; 6 U.S.C. 121; 28 U.S.C. 2671-2680; Federal Tort Claims Act; and Executive Order 9397.

Purpose(s):

The purpose of this system is to respond to and process claims submitted to, or by, DHS, including requests for waivers of claims.

Routine uses of records maintained in the system, including categories of users and the purposes of such uses:

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where the Department of Justice or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To a court, magistrate, or administrative tribunal in the course of presenting evidence, including disclosures to opposing counsel or witnesses in the course of civil discovery, litigation, or settlement negotiations or in connection with criminal law proceedings or in response to a subpoena from a court of competent jurisdiction.

I. To appropriate Federal, state, local, tribal, or foreign governmental agencies or multilateral governmental organizations for the purpose of protecting the vital interests of a data subject or other persons, including to assist such agencies or organizations in preventing exposure to or transmission of a communicable disease or to combat other significant public health threats; appropriate notice will be provided of any identified health threat or risk.

J. To another Federal agency or third party, including insurance companies or worker's compensation carriers, when the claimant(s) may be covered for the damage, loss or injury by insurance and/or a third party is alleged to have or may have, caused or contributed to the damage, loss or injury of the claimant(s).

K. To foreign governments when the claimant is a citizen of that foreign nation or when the United States has an agreement with that foreign country which affects payment of the claim

L. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Data may be retrieved by an individual's or entity's name, Social Security number, corporate tax identification number, address, description and status of claim, and/or other personal identifier.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

Retention and disposal:

Records are destroyed after six years and three months of claim settlement, in accordance with National Archives and Records Administration General Records Schedule 6, Item 10. For claims which the Government's right to collect was not extended, records are destroyed ten years, three months after the year in which the Government's right to collect first accrued, in accordance with National Archives and Records Administration General Records Schedule 6, Item 10.

System Manager and address:

For Headquarters components of DHS, the System Manager is the Director of Departmental Disclosure, Department of Homeland Security, Washington, DC 20528. For components of DHS, the System Manager can be found at http://www.dhs.gov/foia under “contacts.”

Notification procedure:

Individuals seeking notification of and access to any record contained in this system of records, or seeking to contest its content, may submit a request in writing to the Headquarters' or component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record Source Categories:

Information originates from individuals and entities who submit claims, responses to claims, or requests for waiver of claims to DHS.

Exemptions claimed for the system:

The Secretary of Homeland Security has exempted this system from subsections (c)(3) and (4); (d); (e)(1), (2), (3), (5), and (8); and (g) of the Privacy Act pursuant to 5 U.S.C.(j)(2). In additional, the Secretary of Homeland Security has exempted this system from subsections (c)(3), (d), (e)(1), (e)(4)(G), (H), (I), and (f) of the Privacy Act pursuant to 5 U.S.C. 552a(k)(1), (2), and (3).

Dated: October 15, 2008.
Hugo Teufel III,
Chief Privacy Officer, Department of Homeland Security.

[FR Doc. E8-25612 Filed 10-27-08; 8:45 am]

BILLING CODE 4410-10-P